DEPARTMENT OF TRANSPORTATION

Surface Transportation Board

[STB Finance Docket No. 34179]

Bulkmatic Railroad Corporation—Operation Exemption—Bulkmatic Transport Company

Bulkmatic Railroad Corporation (BRC), a noncarrier, has filed a verified notice of exemption under 49 CFR 1150.31 to operate approximately 3.9 miles of railroad right-of-way and trackage at transloading and freighthouse facilities known as Bulkmatic Distribution Center, at Chicago Heights, IL (line).¹

¹ The Board exempted BRC's acquisition by sublease of the line from Bulkmatic Transport Company. See Bulkmatic Railroad Corporation-Acquisition Exemption-Bulkmatic Transport Company, STB Finance Docket No. 34145 (STB served Jan. 15, 2002). The Board also exempted the Chicago Heights Switching Company's (CHSC) operation of the line. See Chicago Heights Switching Company-Operation Exemption-Bulkmatic Railroad Corporation, STB Finance Docket No. 34146 (STB served Jan. 15, 2002). BRC states that the exemptions in STB Finance Docket Nos. 34145 and 34146 have not been consummated. BRC also states that the exemption in STB Finance Docket No. 34145 will go forward but that BRC will be the operator of the line in lieu of CHSC.

The transaction was scheduled to be consummated no earlier than March 6, 2002, the effective date of the exemption (7 days after the exemption was filed).²

² On March 4, 2002, a petition to reject and/or to revoke the exemptions in STB Finance Docket Nos. 34145 and 34179 and for stay of the effective date of the exemption in STB Finance Docket No. 34179 was filed by Joseph C. Szabo, for and on behalf of the United Transportation United-Illinois Legislative Board (UTU-IL). By decision served on March 5, 2002, the petition for stay was denied. That decision also noted that UTU-IL had not supported its request for rejection of the notices and that the request to revoke the exemptions would be addressed in a subsequent decision. See Bulkmatic Railroad Corporation-Acquisition and Operation Exemption-Bulkmatic Transport Company, STB Finance Docket No. 34145 et al. (STB served Mar. 5, 2002). In the decision served on March 5, 2002, the title of STB Finance Docket No. 34145 was incorrect. The correct title of STB Finance Docket No. 34145 is shown in note 1 above.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34179, must be filed with the Surface Transportation Board, Office of the Secretary, Case Control Unit, 1925 K Street, NW., Washington, DC 20423-0001. In addition, a copy of each pleading must be served on David C. Dillon, Esq., Dillon & Nash, 111 West Washington Street, Suite 719, Chicago, IL 60602.

Board decisions and notices are available on our website at www.stb.dot.gov.

Decided: March 7, 2002.
By the Board, David M. Konschnik, Director, Office of Proceedings.
Vernon A. Williams,
Secretary.

[FR Doc. 02-6023 Filed 3-13-02; 8:45 am]

BILLING CODE 4915-00-P